DEPARTMENT OF COMMERCE

National Oceanic and Atmospheric Administration

50 CFR Part 648

[RTID 0648-XB846]

Magnuson-Stevens Fishery Conservation and Management Act Provisions; Fisheries of the Northeastern United States; Amendment 8 to the Northeast Skate Complex Fishery Management Plan

AGENCY: National Marine Fisheries Service (NMFS), National Oceanic and Atmospheric Administration (NOAA), Commerce.

ACTION: Notice of availability of proposed fishery management plan amendment; request for comments.

SUMMARY: The New England Fishery Management Council has submitted Amendment 8 to the Northeast Skate Complex Fishery Management Plan to NMFS for review and approval. Amendment 8 would update the objectives of the skate fishery management plan, which have been unchanged since the original plan was adopted in 2003. The purpose of this amendment is to ensure that the skate management continues to reflect and address the current needs and condition of the skate fishery. These revisions were initially included in Amendment 5 and subsequently Framework Adjustment 9 to the Northeast Skate Complex Fishery Management Plan before those prior actions were discontinued by the Council. This notice is intended to alert the public to this action and provide an opportunity for comment.

DATES: Comments must be received on or before May 31, 2022.

ADDRESSES: You may submit comments on this document, identified by NOAA-NMFS-2022-0031, by the following method:

Electronic Submission: Submit all electronic public comments via the Federal e-Rulemaking Portal.

1. Go to https://www.regulations.gov, and enter “NOAA-NMFS-2022-0031” in the Search box;

2. Click the “Comment” icon, complete the required fields; and

3. Enter or attach your comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

The New England Fishery Management Council prepared a supporting document for this action that describes the proposed revisions to the Northeast Skate management objectives and consistency with applicable law. NMFS prepared a Categorical Exclusion (CE) for this action in compliance with the National Environmental Policy Act, detailing why this action is administrative in nature and may be categorically excluded from requirements to prepare either an Environmental Impact Statement or Environmental Assessment. Copies of the Council document for Amendment 8, CE, and other supporting documents for this action, are available upon request from Thomas A. Nies, Executive Director, New England Fishery Management Council, 50 Water Street, Newburyport, MA 01950. These documents are also accessible via the internet at https://www.nefmc.org/management-plans/skates.

FOR FURTHER INFORMATION CONTACT: Cynthia Ferrio, Fishery Policy Analyst, (978) 281-9180.

SUPPLEMENTARY INFORMATION:

Background

The New England Fishery Management Council manages a complex of seven skate species (barndoor, clearnose, little, rosette, smooth, thorny, and winter skate) off the New England and mid-Atlantic coasts under the Northeast Skate Complex Fishery Management Plan (FMP). This FMP was originally adopted in 2003, and the FMP management goal and objectives have been unchanged since that time.

Over the course of several meetings throughout 2021, the Council determined that some aspects within the existing FMP objectives are out of date and need to be updated. These recommended revisions were originally included in Amendment 5 to the Northeast Skate FMP (85 FR 84304), and subsequently Framework Adjustment 9 to the FMP (86 FR 64186), before both actions were discontinued. On February 1, 2022, the Council voted to submit revisions to the FMP management objectives as Amendment 8.

The purpose of this amendment is to update two of the seven Northeast Skate FMP management objectives that guide and inform regulatory decisions to ensure that skate management continues to reflect and address the current needs and condition of the fishery. This action would update Objectives 2 and 5 to read as follows:

• Objective 2: Implement measures to: Protect any overfished species of skates and increase their biomass to target levels and prevent overfishing of the species in the Northeast skate complex—this may be accomplished through management measures in other FMPs (groundfish, monkfish, scallops), skate-specific management measures, or a combination, as necessary.

• Objective 5: Promote and encourage skate research for critical biological, ecological, and fishery information based on the research needs identified and updated by the Council.

Although these objectives guide management decisions for the skate fishery, they are not formally codified within the regulatory text. Therefore, this action is administrative in nature with no immediate or direct impact on the fishery and/or the skate regulations. Additional information on these proposed changes can be found in the Council document and CE for this amendment (See ADDRESSES).

Public Comment Instructions

The Magnuson-Stevens Fishery Conservation and Management Act (Magnuson-Stevens Act) allows NMFS as the implementing agency to approve, partially approve, or disapprove any amendment submitted by the Council based on whether the measures/changes are consistent with the FMP, the Magnuson-Stevens Act and its National Standards, and other applicable law. As such, NMFS is soliciting public comments on whether the Amendment 8 to the Northeast Skate Complex FMP and its supporting documents are consistent with the Skate FMP, the Magnuson-Stevens Act, and other applicable law. Public comments on this amendment may be submitted through the end of the comment period specified in the DATES section of this notice of availability (NOA).

This is an administrative amendment that contains no changes to the regulatory text or specific management measures of the Northeast skate fishery. However, NMFS will still decide whether to approve these recommended changes to the central objectives of the FMP that guide and inform management decisions. All comments received by the end of the comment period on this NOA will be considered in the approval/disapproval decision on Amendment 8. Comments received after the end of the comment period for this NOA will not be considered in the approval/disapproval decision of this action.

Authority: 16 U.S.C. 1801 et seq.

Dated: March 29, 2022.
Ngagne Jafnar Gueye,
Acting Director, Office of Sustainable Fisheries, National Marine Fisheries Service.

[FR Doc. 2022-06927 Filed 3-31-22; 8:45 am]

BILLING CODE 3510-22-P